DEPARTMENT OF HEALTH AND HUMAN SERVICES

Indian Health Service

Agency Information Collection; Comment Request

AGENCY: Indian Health Service, HHS.

ACTION: Request for public comment: 30-day notice; Proposed information collection: Indian Health Service Contract Health Service Report.

SUMMARY: In compliance with section 3507(a)(1)(D) of the Paperwork Reduction Act of 1995, for opportunity for public comment on proposed information collection projects, the Indian Health Service (IHS) has submitted to the Office of Management and Budget (OMB) a request to review and approve the information collection listed below. This proposed information collection project was previously published in the Federal Register (66 FR 17565) on April 2, 2001 and allowed 60 days for public comment. No public comment was received in response to the notice. The purpose of this notice is to allow 30 days for public comment to be submitted directly to OMB.

Proposed Collection

Title: 09-17-0002, “IHS Contract Health Service Report.” Type of Information Collection Request: Reinstatement, without change, of a previously approved information collection. Form Number(s): IHS 843-1A, “Purchase-Delivery Order for Health Services.” Need and Use of Information Collection: The Contract Health Service health care providers complete form IHS-843-1A to certify that they have performed the health services authorized by the IHS. The information is used to manage, administer, and plan for the provision of health services to eligible American Indian patients, process payments to providers, obtain program data, provide program statistics, and, serves as a legal document for health care services rendered. Frequency: As needed, per health service order. Affected Public: Businesses or other for-profit, Individuals, not-for-profit institutions and State, local or Tribal Government. Type of Respondents: Health care providers. Total Annual Burden Hours: The table below provides burden hour information:

Data collection instrument | Estimated number of respondents | Responses per respondent | Annual number of responses | Average burden hour per response* | Total annual burden hours
IHS-843-1A | 7,399 | 42 | 310,758 | 0.05 (3 min) | 15,538
IDS** | 16,356 | 1 | 16,356 | 0.05 (3 min) | 818
* For ease of understanding, burden hours are also provided in actual minutes.
** Inpatient Discharge Summary (IDS).

There are no Capital Costs, Operating Costs and/or Maintenance Costs to report for this collection of information.

Request for Comments

Your written comments and/or suggestions are invited on one or more of the following points: (a) Whether the information collection activity is necessary to carry out an agency function; (b) whether the IHS processes the information collected in a useful and timely fashion; (c) the accuracy of the public burden estimate (the estimated amount of time needed for individual respondents to provide the requested information); (d) whether methodology and assumptions used to determine the estimate are logical; (e) ways to enhance the quality, utility, and clarity of the information being collected; and (f) ways to minimize the public burden through the use of automated, electronic, mechanical, or other technological collection techniques or other forms of information technology.

Direct Comments to OMB

Send your written comments and suggestions regarding the proposed information collection contained in this notice, especially regarding the estimated public burden and associated response time, to: Office of Management and Budget, Office of Regulatory Affairs, New Executive Office Building, Room 10235, Washington, DC 20503, Attention: Desk Officer for Indian Health Service.

To request more information on the proposed collection or to obtain a copy of the data collection plan(s) or instruction(s), contact Mr. Lance Hodahkwen, Sr., M.P.H., IHS Reports Clearance Officer, 12300 Twinbrook Parkway, Suite 450, Rockville, MD 20852-1601, at (301) 443-5938 (non-toll free), or send facsimile to (301) 443-2613 or E-mail requests, comments, and return address to: lhodahkwen@hqe.ihs.gov.

Comment Due Date

Your comments regarding this information collection are best assured of having their full effect if received within 30 days of the date of this publication.

Dated: October 29, 2001.
Michael H. Trujillo,
Assistant Surgeon General, Director, Indian Health Service.

[FR Doc. 01-29441 Filed 11-26-01; 8:45 am]

BILLING CODE 4160-16-M